DEPARTMENT OF AGRICULTURE

U.S. Codex Office

Codex Alimentarius Commission: Meeting of the Codex Committee on Food Additives

AGENCY: U.S. Codex Office, USDA.

ACTION: Notice of public meeting and request for comments.

SUMMARY: The U.S. Codex Office is sponsoring a public meeting on February 21, 2023, from 9-12 p.m. EST. The objective of the public meeting is to provide information and receive public comments on agenda items and draft United States (U.S.) positions to be discussed at the 53rd Session of the Codex Committee on Food Additives (CCFA) of the Codex Alimentarius Commission, in Hong Kong, People's Republic of China on March 27-31, 2023. The U.S. Manager for Codex Alimentarius and the Under Secretary for Trade and Foreign Agricultural Affairs recognize the importance of providing interested parties the opportunity to obtain background information on the 53rd Session of the CCFA and to address items on the agenda.

DATES: The public meeting is scheduled for February 21, 2023, from 9 a.m. to 12 p.m. EST.

ADDRESSES: The public meeting will take place in a hybrid format. The on-site location is Meeting Room 1A-001 at the Center for Food Safety and Applied Nutrition, U.S. Food and Drug Administration, 5001 Campus Drive, College Park, MD 20740-3835. Documents related to the 53rd Session of the CCFA will be accessible via the internet at the following address: https://www.fao.org/fao-who-codexalimentarius/meetings/detail/en/?meeting=CCFA&session=53.

Dr. Paul Honigfort, U.S. Delegate to the 53rd Session of the CCFA, invites interested U.S. parties to submit their comments electronically to the following email address: ccfa@cfsan.fda.gov.

Registration: In-person attendees may register to attend the public meeting at the following email address: ccfa@cfsan.fda.gov. Virtual attendees may register to attend the public meeting via video teleconference here: https://fda.zoomgov.com/meeting/register/vJIsd-6sqj8oEj61dNRGO8b-j0Ml6ffauzw. Attendees should register by February 16, 2023. After registering, you will receive a confirmation email containing information about joining the meeting. For further information about the public meeting, contact Dr. LaShonda Cureton by phone at: +1 (240) 402-1351 or by email at Lashonda.Cureton@fda.hhs.gov.

For further information about the 53rd session of CCFA, contact U.S. Delegate, Dr. Paul Honigfort, by phone at: +1 (240) 402-1206 or by email at Paul.Honigfort@fda.hhs.gov, or Alternate U.S. Delegate, Dr. Daniel Folmer by phone at +1 (240) 402-1274 or by email at Daniel.Folmer@fda.hhs.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Food Additives are:

(a) to establish or endorse permitted maximum levels for individual food additives;

(b) to prepare priority lists of food additives for risk assessment by the Joint FAO/WHO Expert Committee on Food Additives;

(c) to assign functional classes to individual food additives;

(d) to recommend specifications of identity and purity for food additives for adoption by the Commission;

(e) to consider methods of analysis for the determination of additives in food; and

(f) to consider and elaborate standards or codes for related subjects such as the labelling of food additives when sold as such.

The CCFA is hosted by China and the meeting is attended by the United States as a member of the Codex Alimentarius.

Issues To Be Discussed at the Public Meeting

The following items on the agenda for the 53rd Session of the CCFA will be discussed during the public meeting (agenda item documents can be found on the Codex Alimentarius website at https://www.fao.org/fao-who-codexalimentarius/meetings/detail/en/?meeting=CCFA&session=53):

• Matters Referred by the Codex Alimentarius Commission and other subsidiary bodies

• Matters of Interest arising from FAO/WHO and from the 92nd and 95th Meetings of the Joint FAO/WHO Expert Committee on Food Additives (JECFA)

• Proposed draft specifications for identity and purity of food additives arising from the 92nd and 95th JECFA meeting

• Endorsement and/or revision of maximum levels for food additives and processing aids in Codex standards

• Alignment of the food additive provisions of commodity standards: Report of the electronic working group (EWG) on Alignment

• General Standard for Food Additives (GSFA): Food additive provisions for colors in food categories 01.0 through 03.0 and subcategories including adopted provisions for colors with Note 161 and draft proposed draft provisions (outstanding from CCFA52)

• General Standard for Food Additives (GFSA): Report of the EWG on the GSFA

• General Standard for Food Additives (GFSA): Proposals for new and/or revision of food additive provisions (replies to circular letter (CL) 2021/55-FA)

• Status paper on all adopted food additive provisions in the GSFA for additives with sweetener function but not associated with Note 161

• General information on the availability of data related to nitrates and nitrites (replies to CL 2021/82-FA)

• Information on commercial use of ortho-phenylphenol (INS 232) in food (replies to CL 2021/83-FA)

• Proposed draft revision to the International Numbering System (INS) for Food Additives (CAC/GL 36-1989) Proposals for additions and changes to the Priority List of Substances proposed for evaluation by JECFA (replies to CL 2021/81-FA)

• Discussion paper on mapping Food Categories of the GSFA to the FoodEx2 database

• Discussion paper on the food additive provision for the use of trisodium citrate in FC 01.1.1 “Fluid milk (plain)”

• Discussion paper on the use of certain food additives in wine production

• Other Business and Future Work

Public Meeting

At the public meeting on February 21, 2023, draft U.S. positions on the agenda items will be described and discussed, and attendees will have the opportunity to pose questions and offer comments. Written comments may be offered at the meeting or sent to Dr. Paul Honigfort, U.S. Delegate to the 53rd Session of the CCFA, at ccfa@cfsan.fda.gov.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on January 26, 2023.
Mary Frances Lowe,
U.S. Manager for Codex Alimentarius.

[FR Doc. 2023-02020 Filed 1-31-23; 8:45 am]

BILLING CODE P